DEPARTMENT OF TRANSPORTATION

Federal Highway Administration

Notice of Final Federal Agency Actions on Proposed Highway in Idaho

AGENCY: Federal Highway Administration (FHWA), DOT.

ACTION: Notice of Limitation on Claims for Judicial Review of Actions by FHWA, Army Corps of Engineers (USACE), DoD, and Other Federal Agencies.

SUMMARY: This notice announces actions taken by the FHWA, USACE, and other Federal Agencies that are final within the meaning of 23 U.S.C. 139(l)(1). The actions relate to a proposed highway project, Cheyenne Overpass, Project No. DHP-1564(001), Key No. 7508, Pocatello in Bannock County in the State of Idaho. Those actions grant licenses, permits, and approvals for the project.

DATES: By this notice, the FHWA is advising the public of final agency actions subject to 23 U.S.C. 139(l)(1). A claim seeking judicial review of the Federal agency actions on the highway project will be barred unless the claim is filed on or before January 22, 2008. If the Federal law that authorizes judicial review of a claim provides a time period of less than 180 days for filing such claim, then that shorter time period applies.

FOR FURTHER INFORMATION CONTACT: For HWA: Mr. Peter Hartman, Division Administrator, Federal Highway Administration, 3050 Lakeharbor Lane Suite 126, Boise, Idaho 83703; telephone: (208) 334-1843; e-mail: Idaho.FHWA@fhwa.dot.gov. The FHWA Idaho Division Office's normal business hours are 8 a.m. to 4 p.m. (Mountain Time). For ITD: Mr. Mark Snyder, Project Development Engineer, Idaho Transportation Department, District 5, 5151 South 5th Avenue, Pocatello, Idaho 83205-4700; Normal business hours are 8 a.m. to 4 p.m. (Mountain Time), telephone: (208) 239-3336.

SUPPLEMENTARY INFORMATION: Notice is hereby given that the FHWA has taken final agency actions subject to 23 U.S.C. 129(l)(1) by issuing licenses, permits, and approvals for the following highway project in the State of Idaho: Cheyenne Overpass, Pocatello from Bannock Highway to South 5th Avenue in Bannock County. The project will be a 1.1 mile long, five-lane arterial street with grade separations at 2nd Avenue and Interstate 15. It will begin at Bannock Highway south of Tech Farm Road and proceed to the east over the Portneuf River, Union Pacific Railroad tracks, and 2nd Avenue. Further east the new roadway will cross under Interstate 15 and end at South 5th Avenue. The proposed arterial will be on new alignment. The actions by the Federal agencies, and the laws under which such actions were taken, are described in the Environmental Assessment (EA) and supporting documentation for the project. The EA was released for public review on August 24, 2005; a Finding of No Significant Impact (FONSI) was issued by the FHWA on May 14, 2007. The EA, FONSI, and other supporting information are available by contacting the FHWA or the Idaho Transportation Department at the addresses provided above. The EA and FONSI can be viewed and downloaded from the project Web site at: http://itd.idaho.gov/Projects/D5/CheyenneOverpassEA/ or viewed at public libraries in the project area. This notice applies to all Federal agency decisions as of the issuance date of this notice and all laws under which such actions were taken, including but not limited to:

General Environmental Statutes

National Environmental Policy Act: 42 U.S.C. 4321-4335 (Pub. L. 91-190), (Pub. L. 94-83).

Section 4(f) of The Department of Transportation Act: 23 U.S.C. 138, 49 U.S.C. 303 (Pub. L. 100-17), (Pub. L. 97-449), (Pub. L. 86-670).

Economic, Social, and Environmental Effects: 23 U.S.C. 109(h), (Pub. L. 91-605), 23 U.S.C. 128;

Uniform Relocation Assistance and Real Property Acquisition Act of 1970 (42 U.S.C. 4601 et seq., (Pub. L. 91-646) as amended by the Uniform Relocation Act Amendments of 1987 (Pub. L. 100-17);

Title VI of the Civil Rights Act of 1964 (42 U.S.C. 2000d et seq.) 23 U.S.C. 324; Americans with Disabilities Act (42 U.S.C. 12101) and related statutes.

Executive Order 12898: Environmental Justice.

Public hearings: 23 U.S.C. 128.

Health

Solid Waste Disposal Act, as amended by the Resource Conservation and Recovery Act of 1976: 42 U.S.C. 6901, et seq., especially 42 U.S.C. 6961-6964 (Pub. L. 89-272) (Pub. L. 91-512) (Pub. L. 94-580).

Historical and Archeological Preservation

Section 106 of the National Historic Preservation Act, as Amended: 16 U.S.C. 470f (Pub. L. 89-665) (Pub. L. 91-243) (Pub. L. 93-54) (Pub. L. 94-422) (Pub. L. 94-458) (Pub. L. 96-199) (Pub. L. 96-244) (Pub. L. 96-515) (Pub. L. 102-575).

Section 110 of the National Historic Preservation Act, as Amended: 16 U.S.C. 470H-2 (Pub. L. 96-515).

Archeological and Historic Preservation Act: 16 U.S.C. 469-469C (Pub. L. 93-291) (Moss-Bennett Act).

Archeological Resources Protection Act: 16 U.S.C. 470aa-11 (Pub. L. 96-95).

American Indian Religious Freedom Act: 42 U.S.C. 1996 (Pub. L. 95-341).

Native American Grave Protection and Repatriation Act: (Pub. L. 101-601) 25 U.S.C. 3001 et seq.

Land and Water Usage

Executive Order 11988: Floodplain Management, as amended by Executive Order 12148.

Federal Water Pollution Control Act (1972), as Amended by the Clean Water Act (1977 & 1987): 33 U.S.C. 1251-1376 (Pub. L. 92-500) (Pub. L. 95-217) (Pub. L. 100-4).

Wildflowers 23 U.S.C. 319(B) (Pub. L. 100-17).

Farmland Protection Policy Act of 1981: 7 U.S.C. 4201-4209 (Pub. L. 97-98) (Pub. L. 99-198).

Comprehensive Environmental Response, Compensation, and Liability Act of 1980 (CERCLA), as amended: 42 U.S.C. 9601-9657 (Pub. L. 96-510). Superfund Amendments and Reauthorization Act of 1986: (SARA) (Pub. L. 99-499).

Endangered Species Act of 1973, as amended: 16 U.S.C. 1531-1543 (Pub. L. 93-205) (Pub. L. 94-359) (Pub. L. 95-632) (Pub. L. 96-159) (Pub. L. 97-304).

Intermodal Surface Transportation Efficiency Act of 1991 Sec. 1038 Recycled Paving Material: (Pub. L. 102-240).

Noise

Standards: 23 U.S.C. 109(i) (Pub. L. 91-605) (Pub. L. 93-87).

Air Quality

Clean Air Act (as amended), Transportation Conformity Rule: 23 U.S.C. 109(j) 42 U.S.C. 7521(a) (Pub. L. 101-549).

Intermodal Surface Transportation Efficiency Act of 1991: Congestion Mitigation and Air Quality Improvement Program (CMAQ): Sec. 1008 23 U.S.C. 149.

(Catalog of Federal Domestic Assistance Program Number 20.205, Highway Planning and Construction. The regulations implementing Executive Order 12372 regarding intergovernmental consultation on Federal programs and activities apply to this program.)

Authority: 23 U.S.C. 139(1)(1).

Issued on: July 19, 2007.
B. Renee Sigel,
Assistant Division Administrator.

[FR Doc. 07-3645 Filed 7-25-07; 8:45 am]

BILLING CODE 4910-RY-M